DEPARTMENT OF TRANSPORTATION

National Highway Traffic Safety Administration

[Docket No. NHTSA 2001-10773; Notice 2]

Reporting of Information About Foreign Safety Recalls and Campaigns Related to Potential Defects

AGENCY: National Highway Traffic Safety Administration (NHTSA), DOT.

ACTION: Request for public comment on proposed collection of information.

SUMMARY: This document describes a proposed collection of information under the foreign safety recall and safety campaign reporting requirements of the Transportation Recall Enhancement, Accountability, and Documentation (TREAD) Act, for which NHTSA intends to seek approval from the Office of Management and Budget (OMB).

DATES: Comments must be received on or before October 8, 2002.

ADDRESSES: Comments must refer to the docket and notice numbers cited at the beginning of this notice and must be submitted to Docket Management, Room PL-401, 400 Seventh Street SW., Washington, DC 20590. The Docket is open on weekdays from 9:30 a.m. to 5 p.m.

FOR FURTHER INFORMATION CONTACT: Mr. George Person, Office of Defects Investigation, NHTSA, 400 Seventh Street, SW., Room 5326, Washington, DC 20590. Mr. Person's telephone number is (202) 366-5210.

SUPPLEMENTARY INFORMATION: Under the Paperwork Reduction Act of 1995 (PRA), before an agency submits a proposed collection of information to OMB for approval, it must publish a document in the Federal Register providing a 60-day comment period and otherwise consult with members of the public and affected agencies concerning each proposed collection of information. OMB has promulgated regulations describing what must be included in such a document. Under OMB's regulations (at 5 CFR 1320.8(d)), an agency must ask for public comment on the following:

(i) Whether the proposed collection of information is necessary for the proper performance of the functions of the agency, including whether the information will have practical utility;

(ii) The accuracy of the agency's estimate of the burden of the proposed collection of information, including the validity of the methodology and assumptions;

(iii) How to enhance the quality, utility, and clarity of the information to be collected; and

(iv) How to minimize the burden of the collection of information on those who are to respond, including the use of appropriate automated, electronic, mechanical, or other technological collection techniques or other forms of information technology, e.g., permitting electronic submission of responses.

Reporting of Information About Foreign Safety Recalls and Campaigns Related to Potential Defects

Type of Request—New Collection.

OMB Clearance Number—None.

Requested Expiration Date of Approval—Three years from effective date of final rule.

Summary of Collection of Information—On October 11, 2001, NHTSA published a Notice of Proposed Rulemaking (NPRM) (66 FR 51907) in which it proposed to implement section 3(a) of the Transportation Recall Enhancement, Accountability, and Documentation (TREAD) Act, Public Law 106-414, which requires a manufacturer of motor vehicles or motor vehicle equipment to report to NHTSA whenever it decides to conduct a safety recall or other safety campaign in a foreign country, or has been directed to do so by a foreign government, covering vehicles or equipment that are identical or substantially similar to vehicles or equipment sold or offered for sale in the United States. NHTSA is currently reviewing and analyzing the comments submitted in response to the NPRM and is developing its final rule, which may include revised requirements. The obligation to report this information was effective on the day that the TREAD Act was signed into law, November 1, 2000. Since that date, NHTSA has, in fact, received some notifications of foreign safety campaigns being conducted.

Description of the Need for the Information and Proposed Use of the Information—The intent of the TREAD Act is to provide early warning of potential safety-related defects in motor vehicles and motor vehicle equipment in use in the United States. Whenever a manufacturer of motor vehicles or equipment decides to conduct a safety recall or other safety campaign in a foreign country, or has been directed to do so by a foreign government, covering vehicles or equipment that are identical or substantially similar to vehicles or equipment sold or offered for sale in the United States, that information could indicate that a safety defect or noncompliance exists that requires remedial action. NHTSA will rely on the information provided under this rule in deciding whether to open a formal defect investigation or to pursue appropriate remedial action in the United States.

Description of the Likely Respondents (Including Estimated Number and Proposed Frequency of Responses to the Collection of Information)—The TREAD Act requires all manufacturers of motor vehicles and motor vehicle equipment who sell vehicles or equipment in the United States, and who also sell or plan to sell vehicles outside the United States, to comply with these reporting requirements. We estimate that there are a total of 23,500 manufacturers who sell vehicles or equipment in the United States. Of these, we estimate that fewer than 70 vehicle manufacturers will need to comply with the reporting requirements. Furthermore, we estimate that fewer than 500 reports annually will be submitted. In the one full year since the manufacturers began submitting reports (2001), there were only 234 reports submitted to the agency. However the final rule will specify the contents of the submission and may adopt the proposed requirement that manufacturers must submit reports for the period from November 1, 2000, to the effective date of the final rule. This would increase that number.

Estimate of the Total Annual Reporting and Recordkeeping Burden of the Collection of Information in the NPRM—In order to provide the information required by this rule, manufacturers must (1) determine whether vehicles or equipment that are covered by a foreign safety recall or other safety campaign are identical or substantially similar to vehicles or equipment sold in the United States, (2) prepare and submit reports of these recalls or campaigns to the agency, and (3) where a determination or notice has been made in a language other than English, translate the determination or notice into English before transmitting it to the agency. Additionally, it was proposed that manufacturers report foreign determinations made between November 1, 2000 and the effective date of the final rule.

With respect to the burden of determining identical or substantially similar vehicles or equipment to those sold in the United States, the Alliance of Automobile Manufacturers (the Alliance) in its comments on the NPRM, suggested that “the agency should work with the vehicle manufacturers to establish each year a list of substantially similar vehicles' and that, for inclusion on the list, a vehicle must have “ * * * the same vehicle platform or body shell.” Based on those criteria, we estimate that the annual list could be developed with 8 hours of professional staff time. It was proposed that only vehicle manufacturers would be required to develop this list. (70 vehicle manufacturers × 8 hours = 560 hours.)

We estimate that preparing and submitting each foreign defect report will require 1 hour of clerical staff, or 500 hours annually. (500 defect reports × 1 hour = 500 hours.) We estimate that translation of determinations into English will require 2 hours of technical staff, or 1,000 hours annually. Note: This assumes that all foreign defect reports would require translation. Therefore, this is a maximum number of hours because some foreign defect reports will already be in English. (500 defect reports × 2 hours = 1,000 hours.) Accordingly we estimate the total annual burden on manufacturers to be 2,060 hours (560 hours professional time + 500 hours clerical time + 1,000 hours technical time).

Estimate of the Total Annual Costs of the Collection of Information in the NPRM—Hourly rates for various categories of staff were provided to the agency recently by the Alliance in connection with another rulemaking. We have used those rates to estimate the total annual cost of this collection. We estimate that preparing the annual list would be done by professional staff at an average rate of $101.92 per hour. (560 hours × $101.92 = $57,075.20) We estimate that clerical staff at an average rate of $23.99 per hour would prepare each report. (500 hours × $23.99 = $11,995.00.) Finally, we estimate that technical staff at a rate of $73.55 per hour would perform the translation into English. (1,000 hours × $73.55 = $73,550.00.) This results in a total estimated annual burden of $142,570.20 ($57,075.20 + $11,995.00 + $73,550.00). We believe that, since manufacturers actually began providing the information on or about November 1, 2000, there will be minimal, if any, additional cost associated with reporting of campaigns from that date to the effective date of the final rule.

NHTSA notes that the final rule, Reporting of Information and Documents About Foreign Safety Recalls and Campaigns Related to Potential Defects, might be issued before the end of the 60-day comment period for this collection of information. If this should occur, it would be helpful for public comments in response to this notice to reflect the requirements adopted in the final rule. All comments will be taken into account in NHTSA's Supporting Statement to OMB (that accompanies OMB Form 83-I) to request clearance for this collection of information.

Authority: 44 U.S.C. 3506(c); delegation of authority at 49 CFR 1.50.

Kathleen DeMeter,
Acting Associate Administrator for Safety Assurance.

[FR Doc. 02-20144 Filed 8-8-02; 8:45 am]

BILLING CODE 4910-59-P